DEPARTMENT OF THE TREASURY

Internal Revenue Service

26 CFR Part 1

[REG-156232-03]

RIN 1545-BC80

Information Reporting Relating to Taxable Stock Transactions; Hearing Cancellation

AGENCY: Internal Revenue Service (IRS), Treasury.

ACTION: Cancellation of notice of public hearing on proposed rulemaking.

SUMMARY: This document provides notice of cancellation of a public hearing under section 6043(c) requiring information reporting by a corporation if control of the corporation is acquired or if the corporation has a recapitalization or other substantial change in capital structure.

DATES: The public hearing originally scheduled for March 31, 2004, at 10 a.m., is cancelled.

FOR FURTHER INFORMATION CONTACT: Robin R. Jones of the Publications and Regulations Branch, Legal Processing Division at (202) 622-7180 (not a toll-free number).

SUPPLEMENTARY INFORMATION: A notice of proposed rulemaking and notice of public hearing that appeared in the Federal Register on Tuesday, December 30, 2003 (68 FR 75182), announced that a public hearing was scheduled for March 31, 2004, at 10 a.m., in the IRS Auditorium. The subject of the public hearing is proposed regulations under section 6043 (c) of the Internal Revenue Code. The public comment period for these expired on March 10, 2004.

The notice of proposed rulemaking and notice of public hearing, instructed those interested in testifying at the public hearing to submit an outline of the topics to be addressed. As of Tuesday, March 16, 2004, no one has requested to speak. Therefore, the public hearing scheduled for March 31, 2004, is cancelled.

LaNita Van Dyke,
Acting Chief, Publications and Regulations Branch, Legal Processing Division, Associate Chief Counsel (Procedures and Administration).

[FR Doc. 04-6221 Filed 3-18-04; 8:45 am]

BILLING CODE 4830-01-P